DEPARTMENT OF AGRICULTURE

Submission for OMB Review; Comment Request

January 3, 2005.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), Pamela_Beverly_OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Agricultural Marketing Service

Title: Reporting Requirements Under the Regulations Governing Inspection and Certification of Processed Fruits and Vegetable and Related Products.

OMB Control Number: 0581-0123.

Summary of Collection: The Agricultural Marketing Act of 1946 (7 U.S.C. 1622(h)) requires and directs the Department of Agriculture to promulgate rules and regulations to carry out voluntary inspection and grading services of processed fruits and vegetables on a fee for service basis. The Regulations Governing Inspection and Certification of Processed Fruit and Vegetables and Related Products (7 CFR 52) authorizes the collection of information to assure that the products sampled, inspected, graded and certified are actually the products requested to be sampled and inspected.

Need and Use of the Information: The Agricultural Marketing Service (AMS) uses the data collected for grading and certification purposes and for hiring licensed samplers. The following forms are used by AMS for information collection: FV-159, Application for Inspection of Unofficially Submitted Samples of Food Products, is used to determine the purpose for which the inspection is desired for unofficially submitted samples. FV-356, Application for Inspection and Certificate of Sampling, is used to fill in information about the respondent, to describe the containers, the location code marks and the number of containers in the lot. FV-468, Application for License to Sample Processed Foods, the information collected is used to hire prospective employees desiring to become licensed and to certify as to the identification, location, kinds and condition of containers of processed products that are sampled.

Description of Respondents: Business or other for-profit; Federal Government; State, Local or Tribal Government.

Number of Respondents: 1,406.

Frequency of Responses: Reporting: On occasion.

Total Burden Hours: 1,125.

Agricultural Marketing Service

Title: Specified Commodities Imported into the United States Exempt from Import Requirements, 7 CFR part 944, 980, and 999.

OMB Control Number: 0581-0167.

Summary of Collection: Agricultural Marketing Agreement Act of 1937 (AMAA), as amended (7 U.S.C. 601-674) provides that when certain domestically produced commodities are regulated under a Federal marketing order; imports of the commodity must meet the same or comparable requirements. The North American Free Trade Agreement (NAFTA) provides that imported products destined for processing or other exempt outlets must be given no less favorable treatment than that afforded to domestic products. Import regulations apply only during those periods when domestic marketing order regulations are in effect. No person may import products for processing or other exempt purposes unless an executed FV-6, Importers Exempt Commodity Form, accompanies the shipment. The FV-7, Civil Penalty Stipulation Agreement, is a “volunteer” form that provides the Agricultural Marketing Service (AMS) with an additional tool to obtain resolution of certain cases without the cost of going to a hearing.

Need and Use of the Information: AMS utilizes the information to ensure that imported goods destined for exempt outlets are given no less favorable treatment than that afforded to domestic goods destined for such exempt outlets. The importers wishing to import commodities will use form FV-6, “Importer's Exempt Commodity”, which requires a minimum amount of information.

Description of Respondents: Business or other for-profit; Not-for-profit institutions.

Number of Respondents: 536.

Frequency of Responses: Reporting: On occasion.

Total Burden Hours: 915.

Sondra Blakey,
Departmental Information Collection Clearance Officer.

[FR Doc. 05-303 Filed 1-6-05; 8:45 am]

BILLING CODE 3410-02-P